DEPARTMENT OF COMMERCE

Submission for OMB Review; Comment Request

The Department of Commerce (DOC) will submit to the Office of Management and Budget (OMB) for clearance the following proposal for collection of information under provisions of the Paperwork Reduction Act (44 U.S.C. Chapter 35).

Agency: Bureau of Industry and Security (BIS).

Title: Delivery Verification Certificate.

Agency Form Number: BIS-647P.

OMB Approval Number: 0694-0016.

Type of Request: Extension of a currently approved collection of information.

Burden Hours: 56.

Average Hours Per Response: 34 minutes.

Number of Respondents: 100.

Needs and Uses: The Delivery Verification Certificate is the result of an agreement between the United States and a number of other countries to increase the effectiveness of their respective controls over international trade in strategic commodities. The form is issued and certified by the government of the country of ultimate destination, at the request of the U.S. government (BIS). It is a service performed to honor an agreement between the U.S. Government and the other countries participating in this Delivery Verification procedure.

Affected Public: Business or other for-profit organizations.

Respondent's Obligation: Required to obtain or retain benefits.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230.

Written comments and recommendations for the proposed information collection should be sent within 30 days of publication of this notice to David Rostker, OMB Desk Officer, e-mail address, David_Rostker@omb.eop.gov, or fax number, (202) 395-7285.

Dated: June 14, 2007.
Gwellnar Banks,
Management Analyst, Office of the Chief Information Officer.

[FR Doc. E7-11766 Filed 6-18-07; 8:45 am]

BILLING CODE 3510-DT-P